DEPARTMENT OF TRANSPORTATION

Federal Aviation Administration

14 CFR Part 39

[Docket No. FAA-2013-0535; Directorate Identifier 2013-CE-018-AD; Amendment 39-17489; AD 2013-13-01]

RIN 2120-AA64

Airworthiness Directives; Piper Aircraft, Inc. Airplanes

AGENCY: Federal Aviation Administration (FAA), DOT.

ACTION: Final rule; correction.

SUMMARY: The FAA is correcting an airworthiness directive (AD) that published in the Federal Register. AD 2013-13-01 applies to certain Piper Aircraft, Inc. Models PA-46-310P, PA-46-350P, PA-46R-350T, and PA-46-500TP airplanes. There is an incorrect reference to a paragraph designation, four instances of an incorrect reference to the paragraph in the service bulletin that references an airworthiness limitation, and an incomplete email address for the person to contact in the Related Information section. This document corrects those errors. In all other respects, the original document remains the same.

DATES: This final rule is effective September 12, 2013. The effective date for AD 2013-13-01 (78 FR 41277, July 10, 2013) remains July 10, 2013.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Gary Wechsler, Aerospace Engineer, Atlanta Aircraft Certification Office, FAA, 1701 Columbia Avenue, College Park, Georgia 30337; telephone: (404) 474-5575; fax: (404) 474-5606; email: gary.wechsler@faa.gov.

SUPPLEMENTARY INFORMATION: Airworthiness Directive 2013-13-01, Amendment 39-17489 (78 FR 41277, July 10, 2013), currently requires inspecting the fuel vent valves to identify if the nitrile parts are installed and modifying and eventually replacing the fuel vent valves if the nitrile parts are installed for certain Piper Aircraft, Inc. Models PA-46-310P, PA-46-350P, PA-46R-350T, and PA-46-500TP airplanes.

As published, there is an incomplete email address in the For Further Information Contact section of the preamble. There is an incorrect reference to a paragraph designation, four instances of an incorrect reference to the paragraph in the service bulletin that references an airworthiness limitation, and an incomplete email address for the person to contact in the regulatory information.

No other part of the preamble or regulatory information has been changed; therefore, only the changed portion of the final rule is being published in the Federal Register.

The effective date of this AD remains July 10, 2013.

Correction of Non-Regulatory Text

In the Federal Register of July 10, 2013, AD 2013-13-01; Amendment 39-17489 is corrected as follows:

On page 41278, in the first column, on line 6 under FOR FURTHER INFORMATION CONTACT:, change the email address from “gary.wechsler@faa” to “gary.wechsler@faa.gov.”

Correction of Regulatory Text

§ 39.13 [Corrected]

In the Federal Register of July 10, 2013, on page 41279, in the third column, the last sentence of paragraph (g)(3) of AD 2013-13-01 is corrected to read as follows:

* * * * *

. . . A copy of the limitations from paragraph 4 of Part II of Piper Aircraft, Inc. Mandatory Service Bulletin No. 1258, dated June 15, 2013, must be inserted in the pilot's operating handbook.

* * * * *

In the Federal Register of July 10, 2013, on page 41280, in the first column, the text in line 7 of subparagraph (h)(1) of AD 2013-13-01 is corrected to read as follows:

* * * * *

. . . paragraph (g)(4) of this AD, replace the nitrile . . . .

* * * * *

In the Federal Register of July 10, 2013, on page 41280, in the first column, the last sentence of subparagraph (h)(1) of AD 2013-13-01 is corrected to read as follows:

* * * * *

. . . This would include removing the limitations requirement in paragraph 4 of Part II of the service bulletin.

* * * * *

In the Federal Register of July 10, 2013, on page 41280, in the first column, the last sentence of subparagraph (h)(2) of AD 2013-13-01 is corrected to read as follows:

* * * * *

. . . This would include removing the limitations requirement in paragraph 4 of Part II of the service bulletin.

* * * * *

In the Federal Register of July 10, 2013, on page 41280, in the first column, the text in line 10 of paragraph (i) of AD 2013-13-01 is corrected to read as follows:

* * * * *

. . . the limitations from paragraph 4 of . . . .

* * * * *

In the Federal Register of July 10, 2013, on page 41280, in the second column, the email address in line 6 of paragraph (k), heading Related Information, of AD 2013-13-01 is corrected to read as follows:

* * * * *

. . . gary.wechsler@faa.gov.

* * * * *

Issued in Kansas City, Missouri, on September 3, 2013.
Earl Lawrence,
Manager, Small Airplane Directorate, Aircraft Certification Service.

[FR Doc. 2013-22184 Filed 9-11-13; 8:45 am]

BILLING CODE 4910-13-P